DEPARTMENT OF COMMERCE

[Docket No.: 0909181292-91312-01]

Privacy Act of 1974: System of Records

AGENCY: National Oceanic and Atmospheric Administration, U.S. Department of Commerce.

ACTION: Final notice to delete a Privacy Act system of records: Commerce/NOAA-17; Permits and Registrations for Fisheries of the Exclusive Economic Zone (EEZ) off the Coast of Alaska.

SUMMARY: The National Oceanic and Atmospheric Administration (NOAA) publishes this notice to announce the deletion of a Privacy Act System of Records entitled “Permits and Registrations for Fisheries of the Exclusive Economic Zone (EEZ) off the Coast of Alaska.” This system of records was superseded by Commerce/NOAA-19 (73 FR 20914); Permits and Registrations for United States Federally Regulated Fisheries, which became effective on June 11, 2008 (73 FR 33065).

DATES: The system of records will be deleted on October 1, 2009.

FOR FURTHER INFORMATION CONTACT: Sarah Brabson, NOAA Paperwork Reduction Act Clearance Officer, 1315 East West Highway, Silver Spring, MD 20910.

SUPPLEMENTARY INFORMATION: On February 23, 2009 (74 FR 8052), NOAA published a notice in the Federal Register requesting comments on the deletion of a Privacy Act System of Records entitled COMMERCE/NOAA-17; Permits and Registrations for Fisheries of the Exclusive Economic Zone (EEZ) off the Coast of Alaska. NOAA no longer collects or maintains this system of records as a separate entity. No comments were received in response to the request for comments. By this notice, NOAA is deleting this system of records on October 1, 2009.

Dated: September 25, 2009.
Brenda Dolan,
U.S. Department of Commerce, Freedom of Information/Privacy Act Officer.

[FR Doc. E9-23673 Filed 9-30-09; 8:45 am]

BILLING CODE 3510-22-P